ENVIRONMENTAL PROTECTION AGENCY

[FRL-8685-3]

Clean Water Act Section 303(d): Availability of List Decisions

AGENCY: Environmental Protection Agency.

ACTION: Notice of Availability.

SUMMARY: This notice announces the availability of EPA's final action identifying water quality limited segments and associated pollutants in Arkansas to be listed pursuant to Clean Water Act (CWA) Section 303(d), and request for public comment. Section 303(d) requires that states submit and EPA approve or disapprove lists of waters for which existing technology-based pollution controls are not stringent enough to attain or maintain state water quality standards and for which total maximum daily loads (TMDLs) must be prepared.

On June 18, 2008, EPA partially approved and partially disapproved Arkansas' 2008 303(d) submittal. Specifically, EPA approved Arkansas' listing of 369 water body-pollutant combinations, and associated priority rankings. EPA took neither an approval or disapproval action on 34 waters listed for beryllium and twenty (20) water body pollutant pairs that appear to have been listed in error. EPA disapproved Arkansas' decisions not to list 73 water body-pollutant combinations. EPA identified these additional water body pollutant-combinations along with priority rankings for inclusion on the 2008 Section 303(d) List.

EPA is providing the public the opportunity to review its final decisions to add water body pollutant-combinations to Arkansas' 2008 Section 303(d) List, as required by EPA's Public Participation regulations (40 CFR Part 25). EPA will consider public comments and if necessary amend its final action on the additional water body pollutant-combinations identified for inclusion on Arkansas' Final 2008 Section 303(d) List.

DATES: Comments must be submitted in writing to EPA on or before July 28, 2008.

ADDRESSES: Comments on the decisions should be sent to Diane Smith, Environmental Protection Specialist, Water Quality Protection Division, U.S. Environmental Protection Agency Region 6, 1445 Ross Ave., Dallas, TX 75202-2733, telephone (214) 665-2145, facsimile (214) 665-7373, or e-mail: smith.diane@epa.gov. Oral comments will not be considered. Copies of the documents which explain the rationale for EPA's decisions and a list of the 73 water quality limited segments for which EPA disapproved Arkansas' decision not to list can be obtained at EPA Region 6's Web site at http://www.epa.gov/region06/6wq/npdes/tmdl.htm, or by writing or calling Ms. Smith at the above address. Underlying documents from the administrative record for these decisions are available for public inspection at the above address. Please contact Ms. Smith to schedule an inspection.

FOR FURTHER INFORMATION CONTACT: Diane Smith at (214) 665-2145.

SUPPLEMENTARY INFORMATION: Section 303(d) of the CWA requires that each state identify those waters for which existing technology-based pollution controls are not stringent enough to attain or maintain state water quality standards. For those waters, states are required to establish TMDLs according to a priority ranking.

EPA's Water Quality Planning and Management regulations include requirements related to the implementation of Section 303(d) of the CWA (40 CFR 130.7). The regulations require states to identify water quality limited waters still requiring TMDLs every two years. The list of waters still needing TMDLs must also include priority rankings and must identify the waters targeted for TMDL development during the next two years (40 CFR 130.7).

Consistent with EPA's regulations, Arkansas submitted to EPA its listing decisions under Section 303(d) on April 1, 2008. On June 18, 2008, EPA approved Arkansas' listing of 369 water body-pollutant combinations and associated priority rankings. EPA took neither an approval or disapproval action on 34 waters listed for beryllium and twenty (20) water body pollutant pairs that appear to have been listed in error. EPA disapproved Arkansas' decisions not to list 73 water body-pollutant combinations. EPA identified these additional water body pollutant-combinations along with priority rankings for inclusion on the 2008 Section 303(d) List. EPA solicits public comment on its identification of 73 additional water body-pollutant combinations for inclusion on Arkansas' 2008 Section 303(d) List.

Dated: June 18, 2008.
Miguel I Flores,
Director, Water Quality Protection Division, Region 6.

[FR Doc. E8-14516 Filed 6-25-08; 8:45 am]

BILLING CODE 6560-50-P